DEPARTMENT OF STATE

[Public Notice 6238]

Notice of Public Meeting on FY 2009 Refugee Admissions Program

There will be a meeting on the President's FY 2009 Refugee Admissions Program on Wednesday, June 11, 2008 from 3 p.m. to 5 p.m. The meeting will be held at the Refugee Processing Center, 1401 Wilson Boulevard, Suite 700, Arlington, Virginia. The meeting's purpose is to hear the views of attendees on the appropriate size and scope of the FY 2009 Refugee Admissions Program.

Seating is limited. Persons wishing to attend this meeting must notify the Bureau of Population, Refugees, and Migration at telephone (202) 663-1006 by 5 p.m. on Friday, May 30, 2008, to reserve a seat. Persons planning to present oral comments must notify us by 5 p.m. on Wednesday, June 4, 2008. Persons planning to submit written comments for consideration should provide those comments by 5 on Wednesday, June 4, 2008. All written comments should either be e-mailed to spruellda@state.gov or faxed to (202) 663-1364.

If you have questions about the public meeting, please contact Delicia Spruell, PRM/Admissions Program Officer at (202) 663-1006. Information about the Refugee Admissions Program may be found at http://www.state.gov/g/prm/.

Dated: May 16, 2008.
Samuel Witten,
Acting Assistant Secretary, Department of State.

[FR Doc. E8-11857 Filed 5-27-08; 8:45 am]

BILLING CODE 4710-33-P